NATIONAL SCIENCE FOUNDATION

Advisory Committee for Education and Human Resources

Notice of Meeting

In accordance with Federal Advisory Committee Act (Pub. L. 92-463, as amended), the National Science Foundation announces the following meeting:

Name: Advisory Committee for Education and Human Resources (#1119).

Date/Time: November 2, 2005; 8:30 a.m. to 5 p.m.; November 3, 2005; 8:30 a.m. to 12 p.m.

Place: Conference Room 375, National Science Foundation, 4201 Wilson Blvd., Arlington, VA 22230.

Type of Meeting: Open.

For Further Information Contact: James Colby, National Science Foundation, 4201 Wilson Boulevard, Arlington, VA 22230. (703) 292-5331.

If you are attending the meeting and need access to the NSF, please contact the individual listed above so your name may be added to the building access list.

Purpose of Meeting: To provide advice with respect to the Foundation's education and human resources programming.

Agenda:

November 2, 2005

Introduction of new Members.

Remarks by the Chair.

Presentation by the NSF Office of Cyberinfrastructure (OCI).

Presentation on the International Polar Year (IPY).

Discussion with Assistant Director.

Presentation on Evaluation and Discussion.

COV Reports and Discussion.

Staff will present a matrix of issues and recommendations that cut across all 10 COV Reports.

Discussion of Dean's Meeting to Discuss Math & Science Teacher Preparation.

November 3, 2005

Table Discussion on Important Questions and Issues for the Director.

Visit with NSF Director.

Next Steps.

Closing Remarks.

Housekeeping Chore: Set future meeting dates.

Adjourn.

Dated: October 4, 2005.
Susanne Bolton,
Committee Management Officer.

[FR Doc. 05-20260 Filed 10-6-05; 8:45 am]

BILLING CODE 7599-01-M